DEPARTMENT OF COMMERCE

National Oceanic and Atmospheric Administration

[I.D. 123004A]

Pacific Fishery Management Council; Ad Hoc Allocation Committee; Public Meeting

AGENCY: National Marine Fisheries Service (NMFS), National Oceanic and Atmospheric Administration (NOAA), Commerce.

ACTION: Notice of public meeting.

SUMMARY: The Pacific Fishery Management Council's (Council) Ad Hoc Allocation Committee (Committee) will hold a working meeting, which is open to the public. The purpose of the meeting is to develop options for allocations and other management measures for the 2005-2006 Pacific Coast groundfish fishery and to consider allocation issues associated with development of an individual quota (or dedicated access) program initiative for the Pacific Coast groundfish trawl fishery.

DATES: The meeting will be held Wednesday, January 26, 2005, from 1 p.m. until business for the day is completed. The meeting will reconvene Thursday, January 27, 2005, from 8:30 a.m. until business for the day is completed.

ADDRESSES: The meeting will be held at the Embassy Suites Hotel Portland Airport, Cedars I and II Rooms, 7900 NE 82nd Avenue, Portland, OR 97220; telephone: 503-460-3000.

Council address: Pacific Fishery Management Council, 7700 NE Ambassador Place, Suite 200, Portland, OR 97220-1384.

FOR FURTHER INFORMATION CONTACT: John DeVore, Groundfish Management Coordinator; telephone: 503-820-2280.

SUPPLEMENTARY INFORMATION: The purpose of the Committee meeting is to develop options for allocations and other management measures for the 2005-2006 Pacific Coast groundfish fishery and to consider allocation issues associated with development of an individual quota (or dedicated access) program initiative for the Pacific Coast groundfish trawl fishery. The Committee will discuss the types of provisions that may be necessary to prevent further overfishing, to reduce bycatch of overfished species in the various groundfish fisheries, and to reduce bycatch in nongroundfish fisheries. No management actions will be decided by the Committee. The Committee's role will be development of recommendations for consideration by the Council at its March 2005 meeting in Sacramento, CA.

Although nonemergency issues not contained in the meeting agenda may come before the Committee for discussion, those issues may not be the subject of formal Committee action during this meeting. Committee action will be restricted to those issues specifically listed in this notice and any issues arising after publication of this notice that require emergency action under Section 305(c) of the Magnuson-Stevens Fishery Conservation and Management Act, provided the public has been notified of the Committee's intent to take final action to address the emergency.

Special Accommodations

This meeting is physically accessible to people with disabilities. Requests for sign language interpretation or other auxiliary aids should be directed to Carolyn Porter at 503-820-2280 at least five days prior to the meeting date.

Dated: December 30, 2004.
Alan D. Risenhoover,
Acting Director, Office of Sustainable Fisheries, National Marine Fisheries Service.

[FR Doc. E4-3932 Filed 1-4-05; 8:45 am]

BILLING CODE 3510-22-S